ENVIRONMENTAL PROTECTION AGENCY

[FRL OP-OFA-060]

Environmental Impact Statements; Notice of Availability

Responsible Agency: Office of Federal Activities, General Information 202-564-5632 or https://www.epa.gov/nepa.

Weekly receipt of Environmental Impact Statements (EIS)

Filed February 27, 2023 10 a.m. EST Through March 7, 2023 10 a.m. EST

Pursuant to 40 CFR 1506.9.

Notice: Section 309(a) of the Clean Air Act requires that EPA make public its comments on EISs issued by other Federal agencies. EPA's comment letters on EISs are available at: https://cdxapps.epa.gov/cdx-enepa-II/public/action/eis/search.

EIS No. 20230039, Draft Supplement, USFS, ID, Hungry Ridge Restoration Project, Comment Period Ends: 04/24/2023, Contact: Jennie Fischer 208-983-4048.

Amended Notice

EIS No. 20230006, Draft, BLM, ID, Lava Ridge Wind Project, Comment Period Ends: 04/20/2023, Contact: Kasey Prestwich 208-732-7204.

Revision to FR Notice Published 01/20/2023; Extending the Comment Period from 03/21/2023 to 04/20/2023.

Dated: March 7, 2023.
Cindy S. Barger,
Director, NEPA Compliance Division, Office of Federal Activities.

[FR Doc. 2023-04927 Filed 3-9-23; 8:45 am]

BILLING CODE 6560-50-P